DEPARTMENT OF HOMELAND SECURITY

Coast Guard

[Docket No. USCG-2013-1047]

Draft Guidance for Interpreting Regulations for Marine Casualty Reporting

AGENCY: Coast Guard, DHS.

ACTION: Notice of availability and request for comments.

SUMMARY: The Coast Guard announces the availability of draft guidance in the form of a Navigation and Vessel Inspection Circular (NVIC) entitled “Title 46, Code of Federal Regulations (CFR), Part 4 Marine Casualty Reporting Procedures Guide with Associated Standard Interpretations.” The draft NVIC will assist regulated maritime industry stakeholders in determining if certain occurrences are reportable or not reportable to the Coast Guard, other than those related to recreational vessel casualties. This notice requests public comment on the impacts that the interpretations and policies contained in the draft NVIC would have upon vessel owners and operators or other affected parties. This notice promotes the Coast Guard's maritime safety and stewardship missions.

DATES: Comments and other related material on the draft NVIC must either be submitted to our online docket via http://www.regulations.gov on or before April 14, 2014 or reach the Docket Management Facility by that date.

ADDRESSES: You may submit comments identified by docket number USCG-2013-1047 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, email Lieutenant Commander Randy S. Waddington, Office of Investigations and Analysis, U.S. Coast Guard at HQS-PF-fldr-CG-INV@uscg.dhs.gov. If you have questions on viewing or submitting material to the docket, call Barbara Hairston, Program Manager, Docket Operations, telephone 202-366-9826.

SUPPLEMENTARY INFORMATION:

Public Participation and Request for Comments

We encourage you to submit comments and related material on the draft NVIC. All comments received will be posted, without change, to http://www.regulations.gov and will include any personal information you have provided.

A. Submitting Comments

If you submit a comment, please include the docket number for this notice (USCG-2013-1047) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, and follow the instructions on that Web site. If you submit your comments by mail or hand delivery, submit them in an unbound format, no larger than 8½ by 11 inches, suitable for copying and electronic filing. If you submit comments by mail and would like to know that they reached the Facility, please enclose a stamped, self-addressed postcard or envelope. We will consider all comments and material received during the comment period and may change this proposed guidance based on your comments.

B. Viewing Comments and Documents

Public comments and relevant documents mentioned in this notice will all be available in the public docket. To see the public docket, go to http://www.regulations.gov, and follow the instructions on that Web site. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Discussion

Historically, the Coast Guard has relied upon the language found in 46 CFR part 4 to assist regulated industry stakeholders in determining if an occurrence is a reportable marine casualty. Information and data collected by the Coast Guard during marine casualty investigations are used by a wide audience for many purposes from enforcement of laws to enhancement of prevention activities (i.e., safety alerts and standards). Therefore, it is critical that casualty information be consistently captured. In addition, even minor incidents provide valuable leading indicator and trend analysis information critical for an effective prevention program.

Due to the complexity of the subject, the Coast Guard recognizes that additional clarification of these requirements would benefit both the Coast Guard and the regulated industry. Such clarification furthers the Coast Guard's goal of providing consistent national guidance regarding marine casualty reporting to all stakeholders. Because marine casualties occur among a wide range of vessel types and operations, a consistent national framework must outline expectations and alleviate confusion.

The draft NVIC lays the appropriate foundation for this consistent capture of marine casualty data by clarifying existing regulations, policies, and procedures. Specifically, the draft NVIC assists responsible parties in the proper evaluation of occurrences that constitute a reportable marine casualty and subsequently require action by both Coast Guard and maritime industry stakeholders.

Persons reporting marine casualties should make every effort by any means available to immediately notify the nearest Coast Guard Command Center. The notification must include the information required by 46 CFR 4.05-5. A written follow-up report meeting the requirements of 46 CFR 4.05-10 must be submitted within 5 days. If there is any doubt whether an occurrence is a reportable marine casualty, we encourage you to contact the nearest Officer in Charge, Marine Inspection staff (typically via the nearest Coast Guard Command Center) to determine an appropriate response.

We encourage readers to review the entire draft NVIC, available in the docket. We request comments from all interested parties to ensure that the full range and significance of issues addressed in the draft NVIC are identified prior to final promulgation.

Authority

This notice is issued under authority of 5 U.S.C. 552(a).

Dated: December 24, 2013.
J.A. Servidio,
Rear Admiral, U.S. Coast Guard, Assistant Commandant for Prevention Policy.

[FR Doc. 2014-00443 Filed 1-13-14; 8:45 am]

BILLING CODE 9110-04-P